DEPARTMENT OF COMMERCE

National Oceanic and Atmospheric Administration

Membership of the National Oceanic and Atmospheric Administration Performance Review Board

AGENCY: National Oceanic and Atmospheric Administration (NOAA), Department of Commerce.

ACTION: Notice of Membership of the NOAA Performance Review Board.

SUMMARY: In accordance with 5 U.S.C. 4314(c)(4), NOAA announces the appointment of twenty-two members to serve on the NOAA Performance Review Board (PRB). The NOAA PRB is responsible for reviewing performance appraisals and ratings of Senior Executive Service (SES) members and making written recommendations to the appointing authority on SES retention and compensation matters, including performance-based pay adjustments, awarding of bonuses and reviewing recommendations for potential Presidential Rank Award nominees. The appointment of members to the NOAA PRB will be for a period of 24 months.

EFFECTIVE DATE: The effective date of service of the twenty-two appointees to the NOAA Performance Review Board is September 4, 2007.

FOR FURTHER INFORMATION CONTACT: Claudia McMahon, Executive Resources Program Manager, Workforce Management Office, NOAA, 1305 East-West Highway, Silver Spring, Maryland 20910, (301) 713-6306.

SUPPLEMENTARY INFORMATION: The names and position titles of the members of the NOAA PRB are set forth below (all are NOAA officials except Tyra D. Smith, Director, Human Resources, Bureau of the Census, Department of Commerce; William J. Fleming, Deputy Director for Human Resources Management, Office of Human Resources Management, Department of Commerce:

John E. Oliver, Jr.—Deputy Assistant Administrator for Operations, National Marine Fisheries Service

Maureen E. Wylie—Chief Financial Officer

Vickie L. Nadolski—Director, Western Region, National Weather Service

Charles S. Baker—Deputy Assistant Administrator, National Environmental Satellite, Data and Information Service

Alexander E. MacDonald—Deputy Assistant Administrator for Laboratories and Cooperative Institutes and Director, ESRL, Office of Oceanic and Atmospheric Research

Paul N. Doremus—Director, Strategic Planning Office of Program Planning and Integration

William Corso—Deputy Assistant Administrator for Ocean Services and Coastal Zone Management, National Ocean Service

Timothy R.E. Keeney—Deputy Assistant Secretary

Tyra D. Smith—Director, Human Resources, Bureau of the Census, Department of Commerce

Craig N. McLean—Deputy Assistant Administrator for Programs and Administration, Office of Oceanic and Atmospheric Research

Elizabeth R. Scheffler—Associate Assistant Administrator for Management and CFO/CAO, National Ocean Service

Rebecca Lent—Director, International Affairs, National Marine Fisheries Service

Deidre R. Jones—Director, Systems Engineering Center, National Weather Service

Joseph F. Klimavicz—Chief Information Officer and Director for High Performance Computing and Communications, Office of the Under Secretary

Scott C. Rayder—Chief of Staff for NOAA

Helen M. Hurcombe—Director, Acquisition and Grants Office

Gregory A. Mandt—Director, Science and Technology, National Weather Service

Louis W. Uccellini—Director, National Centers for Environmental Prediction, National Weather Service

Samuel D. Rauch III—Deputy Assistant Administrator for Regulatory Programs, National Marine Fisheries Service

Kathleen A. Kelly—Director, Office of Satellite Operations, National Environmental Satellite, Data and Information Service

Daniel J. Basta—Director, Office of National Marine Sanctuaries, National Ocean Service

William J. Fleming—Deputy Director for Human Resources Management, Department of Commerce

Dated: August 28, 2007.
Conrad C. Lautenbacher, Jr.,
Vice Admiral, U.S. Navy (Ret.), Under Secretary of Commerce for Oceans and Atmosphere.

[FR Doc. 07-4347 Filed 9-5-07; 8:45 am]

BILLING CODE 3510-12-M